ENVIRONMENTAL PROTECTION AGENCY

[EPA-HQ-OPP-2010-0014; FRL-8861-4]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows a June 16, 2010 Federal Register Notice of Receipt of Requests from the registrants listed in Table 2 of Unit II. to voluntarily cancel these product registrations. In the June 16, 2010 notice, EPA indicated that it would issue an order implementing the cancellations, unless the Agency received substantive comments within the 180-day comment period that would merit its further review of these requests, or unless the registrants withdrew their requests. The Agency did not receive any comments on the notice. Further, the Agency received notice from Waterbury Companies, Inc. to withdraw its cancellation request for product 9444-170. Accordingly, EPA hereby issues in this notice a cancellation order granting the requested cancellations. Any distribution, sale, or use of the products subject to this cancellation order is permitted only in accordance with the terms of this order, including any existing stocks provisions.

DATES: The cancellations are effective January 26, 2011.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-0014. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 54 products registered under FIFRA section 3 or section 24(c). These registrations are listed in sequence by registration number in Table 1 of this unit.

Table 1—Product Cancellations
Registration No. | Product name | Active ingredients
000004-00059 | Bonide Rose & Flower Dust | Malathion Carbaryl Captan.
000228-00629 | SFM E-PRO 75 EG Herbicide | Sulfometuron.
000228-00683 | ET-002 | Sulfometuron.
000279-03392 | CB-38-3 WB | Piperonyl Butoxide Pyrethrins.
000432-00800 | Esbiol 90% Concentrate | S-Bioallethrin.
000432-00801 | Esbiothrin 90% Concentrate | Esbiothrin.
000432-00802 | Bioallethrin 90% Concentrate | Bioallethrin.
000432-00841 | DS 215 Professional Insecticide | S-Bioallethrin Deltamethrin.
000432-00848 | DS 210 Professional Insecticide | S-Bioallethrin Deltamethrin.
000432-0870 | Esbiol 300 Insecticide | S-Bioallethrin.
000432-0871 | Esbiol 2000 Insecticide | S-Bioallethrin.
000498-0149 | Chase-MM Flying and Crawling Insect Killer | Bioallethrin MGK 264 Permethrin.
000498-00170 | Spraypak Wasp & Hornet Killer, Formula 2 | d-Allethrin Phenothrin.
000769-00594 | R&M Permethrin Flea & Tick Dip #2 | MGK 264 Permethrin.
000769--0965 | Sureco Permethrin Powder | Permethrin.
002517-00022 | Double Duty Bird Guard | Paradichlorobenzene.
002517-00049 | Sergeant's Pump Soap for Dogs | Bioallethrin MGK 264 Phenothrin.
002517-00059 | Sergeant's Skip-Flea Soap (with D-Phenothrin) | MGK 264 Phenothrin.
002517-00067 | Sergeant's Flea and Tick Dip | MGK 264 Permethrin.
002517-00074 | Sergeant's Flea & Tick Spray | MGK 264 Permethrin.
002724-00698 | Tetraperm Wasp & Hornet Killer FEQ 23 II | Piperonyl Butoxide Tetramethrin Permethrin.
004822-00271 | #271 Raid Roach & Ant Killer and Treatment | Tetramethrin Permethrin.
004822-00423 | Raid Wasp & Hornet Killer XIII | Tetramethrin Permethrin.
004822-00456 | Raid Pip 1 | Permethrin.
004822-00462 | Whitmire Flea & Tick Dip | MGK 264 Permethrin.
004822-00470 | Raid PP | Permethrin.
004822-00488 | Raid—CK | MGK 264 Permethrin Pyriproxyfen.
004822-00514 | Raid F1K Formula H2A | Tetramethrin Permethrin.
004822-00533 | Raid Reach & Kill Outdoor Ant & Roach Killer | Tetramethrin Permethrin.
008112-00001 | Lion-Tiger Mosquito Coils | d-Allethrin.
009688-00053 | Chemisco Flea Control A | Bioallethrin MGK 264 Phenothrin.
010088-00021 | ESPC Emulsifiable Synergized Pyrethrum Concentrate | MGK 264 Piperonyl Butoxide Pyrethrins.
010807-00003 | Misty Blaster Insect Spray | MGK 264 Piperonyl Butoxide Pyrethrins.
010807-00027 | Misty Mizer Insecticide | MGK 264 Piperonyl Butoxide Pyrethrins.
010807-00044 | Misty Mizer Economy Insecticide | MGK 264 Piperonyl Butoxide Pyrethrins.
010807-00096 | Misty Space Spray Insecticide | MGK 264 Piperonyl Butoxide Pyrethrins.
010807-00188 | Misty Industrial Insect Killer | Piperonyl Butoxide Pyrethrins Permethrin.
010807-00197 | Misty Anti-Crawl III | Piperonyl Butoxide Tetramethrin Permethrin.
010807-00198 | Misty Wasp & Hornet Killer IV | Piperonyl Butoxide Tetramethrin Permethrin.
013799-00024 | Four Paws Magic Coat Plus II | Bioallethrin MGK 264 Phenothrin.
033176-00021 | Airysol Brand Insect Killer | Bioallethrin MGK 264 Piperonyl Butoxide.
040849-00016 | Enforcer Flea & Tick Powder for Pets | MGK 264 Piperonyl Butoxide Pyrethrins.
058630-00003 | Varpel Rope | Paradichlorobenzene.
061483-00068 | Permectrin 25% Wettable Powder | Permethrin.
062355-00001 | Concern Houseplant and Garden Insect Killer | Piperonyl Butoxide Pyrethrins.
064537-00001 | Cocksec Mosquito Coil | d-Allethrin.
075101-00002 | Tanalith®T | Permethrin.
075101-00003 | Tanalith®T Plus | IPBC Permethrin.
080203-00001 | Go Away | Permethrin.
084396-00028 | Sungro Pyreth #3 | Piperonyl Butoxide Pyrethrins.
CA880005 | Dormant Flowable Emulsion | Mineral Oil—includes paraffin oil.
CA960011 | Mefenoxam EC | D-Alanine,N-(2,6-dimethylphenyl)-N-(methoxyacetyl)-methyl ester.
MN940003 | Malathion 5 EC | Malathion.
OR040002 | Caparol 4L | Prometryn.

Table 2 of this unit includes the names and addresses of record for all registrants of the products in Table 1 of this unit, in sequence by EPA company number. This number corresponds to the first part of the EPA registration numbers of the products listed in Table 1 of this unit.

Table 2—Registrants of Cancelled Products
EPA Co. No. | Company name and address
4 | Bonide Products, Inc., Agent Registrations By Design, Inc., P.O. Box 1019, Salem, VA 24153-3805.
228 | Nufarm Americas Inc., 150 Harvester Dr, Suite 200, Burr Ridge, IL 60527.
279 | FMC Corp. Agricultural Products Group, 1735 Market St, Rm. 1978, Philadelphia, PA 19103.
432 | Bayer Environmental Science, 2 T. W. Alexander Drive, P.O. Box 12014, Research Triangle Park, NC 27709.
498 | Chase Products Co., P.O. Box 70, Maywood, IL 60153.
769 | Value Gardens Supply, LLC, P.O. Box 585, Saint Joseph, MO 64502.
2517 | Sergeant's Pet Care Products, Inc., 2625 South 158th Plaza, Omaha, NE 68130-1703.
2724 | Wellmark International, 1501 E. Woodfield Rd, Suite 200 West, Schaumburg, IL 60173.
4822 | S.C. Johnson & Son, Inc., 1525 Howe St., Racine, WI 53403.
8112 | Lion Chemical Co., Ltd., 1330 Dillon Heights Ave., Baltimore, MD 21228.
9688 | Chemsico, Div of United Industries Corp., P.O. Box 142642, St. Louis, MO 63114-0642.
10088 | Athea Laboratories Inc., P.O. Box 240014, Milwaukee, WI 53224.
10807 | Amrep, Inc., 990 Industrial Park Drive, Marietta, GA 30062.
13799 | Four Paws Products LTD, 50 Wireless Boulevard, Hauppauge, NY 11788.
33176 | Amrep, Inc., 990 Industrial Park Drive, Marietta, GA 30062.
40849 | ZEP Inc., 1310 Seaboard Industrial Blvd. NW, Atlanta, GA 30318.
58630 | Woodstream Corporation, 69 North Locust St., P.O. Box 327, Lititz, PA 17543-0327.
61483 | KMG-Bernuth, Inc., 9555 W. Sam Houston Pkwy South, Suite 600, Houston, TX 77099.
62355 | Miracle-Gro Lawn Products Inc., 14111 Scottslawn Rd, Marysville, OH 43041.
64537 | Dainihon Jochugiku Co., Ltd, 1330 Dillon Heights Ave., Baltimore, MD 21228.
75101 | Arch Wood Protection Limited, 5660 New Northside Drive, Ste 1100, Atlanta, GA 30328.
80203 | Starensier, Inc., 10 Mulliken Way, P.O. Box 408, Newburyport, MA 01950-0508.
84396 | Sungro Products, LLC, 810 E. 18th St., Los Angeles, CA 90021.
CA960011; OR040002 | Syngenta Crop Protection, Inc., P.O. Box 18300, Greensboro, NC 27419-8300.
CA880005 | Loveland Products, Inc., P.O. Box 1286, Greeley, CO 80632-1286.
MN940003 | Arysta Lifescience North America, LLC, 155401 Weston Parkway, Suite 150, Cary, NC 27513.

III. Summary of Public Comments Received and Agency Response to Comments

During the public comment period provided, EPA received no comments in response to the June 16, 2010 Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II. are canceled. The effective date of the cancellations that are subject of this notice is January 26, 2011. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register issue of June 16, 2010 (75 FR 34117) (FRL-8827-1). The comment period closed on December 13, 2010.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until January 26, 2012, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: January 11, 2011.
Richard P. Keigwin, Jr.,
Director, Pesticide Re-evaluation Division, Office of Pesticide Programs.

[FR Doc. 2011-1124 Filed 1-25-11; 8:45 am]

BILLING CODE 6560-50-P